DEPARTMENT OF DEFENSE

GENERAL SERVICES ADMINISTRATION

NATIONAL AERONAUTICS AND SPACE ADMINISTRATION

[OMB Control No. 9000-0142; Docket 2014-0055; Sequence 31]

Federal Acquisition Regulation; Submission for OMB Review; Past Performance Information

AGENCY: Department of Defense (DOD), General Services. Administration (GSA), and National Aeronautics and Space Administration (NASA).

ACTION: Notice of request for public comments regarding an extension to an existing OMB clearance.

SUMMARY: Under the provisions of the Paperwork Reduction Act the Regulatory Secretariat Division will be submitting to the Office of Management and Budget (OMB) a request to review and approve an extension of a previously approved information collection requirement concerning past performance information. A request for public comments was published in the Federal Register at 79 FR 68683, November 18, 2014. Five comments were received.

DATES: Submit comments on or before April 13, 2015.

ADDRESSES: Submit comments identified by Information Collection 9000-0142, Past Performance Information, by any of the following methods:

• Regulations.gov: http://www.regulations.gov. Submit comments via the Federal eRulemaking portal by searching the OMB control number 9000-0142. Select the link “Comment Now” that corresponds with “Information Collection 9000-0142, Past Performance Information.” Follow the instructions provided on the screen. Please include your name, company name (if any), and “Information Collection 9000-0142, Past Performance Information,” on your attached document.

• Fax: 202-501-4067.

• Mail: General Services Administration, Regulatory Secretariat Division (MVCB), 1800 F Street NW., Washington, DC 20405. ATTN: Ms. Flowers/IC 9000-0142, Past Performance Information.

Instructions: Please submit comments only and cite “Information Collection 9000-0142, Past Performance Information”, in all correspondence related to this collection. All comments received will be posted without change to http://www.regulations.gov, including any personal and/or business confidential information provided.

FOR FURTHER INFORMATION CONTACT: Mr. Curtis E. Glover, Sr., Procurement Analyst, Acquisition Policy Division, at GSA 202-501-1448 or email curtis.glover@gsa.gov.

SUPPLEMENTARY INFORMATION:

A. Purpose

Past performance information regarding a contractor's actions under previously awarded contracts is relevant information for future source selection purposes. The information collection requirements at FAR 15.304 and 42.15 remains the same; however, the public burden has been adjusted downward. Specifically, the estimated number of responses used to calculate the burden have been reduced based on data available in the Federal Procurement Data System (FPDS) and the Contractor Performance Assessment Reporting System (CPARS) for Fiscal Year (FY) 2014.

B. Analysis of Public Comments

Two respondents submitted five public comments on the extension of the previously approved information collection. The analysis of the public comments is summarized as follows:

Comment: The respondent commented on a Federal Aviation Administration's Notice of Proposed Rule Making in regards to the “Flight Simulation Training Device Qualification Standards for Extended Envelope and Adverse Weather Event Training Tasks.”

Response: The respondent's comments are outside the scope of this information collection.

Comment: The respondent commented that the Agency's estimate of two hours per response underestimates the hours it takes for contractors to respond to source selection requirements related to past performance.

Response: Two hours is the average amount of time to read and prepare information on a company's past performance for source selection purposes. The estimate considered the amount of time a simple or standard disclosure might require in response to non-complex solicitations, in some cases by businesses with limited experience, as well as the time that might be required for a very complex disclosure by a major corporation. In addition, the estimated burden hours include only projected hours for those actions which a company would not undertake in the normal course of business. Maintaining information and references on work they have performed in the past are considered actions undertaken in the normal course of business.

Comment: The respondent commented that the Agency's methodology for preparing burden estimates is faulty resulting in unrealistically low estimates, which sets unreasonable expectations for turnaround time and disguises the true cost of the responses.

Response: The burden estimate is prepared taking into consideration the necessary criteria in OMB guidance for estimating the paperwork burden put on the entity submitting the information. For example, consideration is given to an entity reviewing instructions; using technology to collect, process, and disclose information; adjusting existing practices to comply with requirements; searching data sources; completing and reviewing the response; and transmitting or disclosing information.

Careful consideration went into assessing the estimated burden hours for this collection, and the collection requirements at FAR 15.304 and 42.15 remains the same. There is no change to the estimated number of hours per response associated with this request for extension; rather, the estimated number of responses was reduced based on data available FPDS and CPARS regarding awards in FY 2014.

Comment: In the past, including in connection with FAR Case 2007-006, the Agency both acknowledged that the initial estimate was unrealistically low while also defending the methodology that it used to develop the unrealistic estimate.

Response: Serious consideration is given, during the open comment period, to all comments received and adjustments are made to the paperwork burden estimate based on reasonable considerations provide by the public. This is evidenced, as the respondent notes, in FAR Case 2007-006 where an adjustment was made from the total preparation hours from three to sixty. This change was made considering particularly the hours that would be required for review within the company, prior to release to the Government.

Comment: The respondent commented that granting the extension would violate at least the spirit of the Paperwork Reduction Act.

Response: The Paperwork Reduction Act (PRA) was designed to improve the quality and use of Federal information to strengthen decision-making, accountability, and openness in government and society. Central to this process is the solicitation of comments from the public. This process incorporates an enumerated specification of targeted information and provides interested parties a meaningful opportunity for comment on the relevant compliance cost. This process has led to decreases in the overall collective burden of compliance for the information collection requirement in regards to the public. Based on OMB estimates, in FY 2010, the public spent 8.8 billion hours responding to information collections. This was a decrease of one billion hours, or ten percent from the previous FY. In effect, the collective burden of compliance for the public is going down as the Government publishes rules that make the process less complex, more transparent, and reduce the cost of Federal regulations.

C. Annual Reporting Burden

a. Responses during Source Selection.

Respondents: 27,734.

Responses per Respondent: 4.

Annual Responses: 110,936.

Hours per Response: 2.

Total Burden Hours: 221,872.

b. Responses in CPARS.

Respondents: 177,396.

Responses per Respondent: 1.

Annual Responses: 177,396.

Hours per Response: 2.

Total Burden Hours: 354,792.

c. Total annual burden: 576,664 Hours.

D. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

E. Obtaining Copies of Proposals

Requesters may obtain a copy of the information collection documents from the 1800 F Street NW., Washington, DC 20405, telephone 202-501-4755.

Please cite OMB Control No. 9000-0142, Past Performance Information, in all correspondence.

Dated: March 4, 2015.
Edward Loeb,
Acting Director, Office of Government-wide Acquisition Policy, Office of Acquisition Policy, Office of Government-wide Policy.

[FR Doc. 2015-05673 Filed 3-11-15; 8:45 am]

BILLING CODE 6820-EP-P